DEPARTMENT OF LABOR

Office of the Secretary

Senior Executive Service; Appointment of Members to the Performance Review Board

Title 5 U.S.C. 4314(c)(4) provides that Notice of the Appointment of the individual to serve as a member of the Performance Review Board of the Senior Executive Service shall be published in the Federal Register.

The following individuals are hereby appointed to serve on the Department's Performance Review Board:

Permanent Membership

Chair—Deputy Secretary—Seth D. Harris

Vice-Chair—Assistant Secretary for Administration and Management—T. Michael Kerr

Executive Secretary—Director, Executive Resources—Crystal Scott

Alternate Vice-Chair—Director, Human Resources Center—Eugenio (Gene) Ochoa Sexton

Rotating Membership

ASP Kathleen E. Franks, Director, Office of Regulatory and Programmatic Policy—appointment expires on 09/30/12

BLS John M. Galvin, Associate Commissioner, Office of Employment and Unemployment Statistics—appointment expires on 09/30/2013

EBSA Sharon S. Watson, Director, Office of Participant Assistance—appointment expires on 9/30/12

EBSA Jonathan Kay, Regional Administrator (New York)—appointment expires on 9/30/13

ETA Grace A. Kilbane, Administrator, Office of Workforce Investment—appointment expires on 09/30/11

ILAB Marcia M. Eugenio, Director, Office of Child Labor, Forced Labor Human Trafficking—appointment expires on 09/30/12

MSHA Maureen Walsh, Director, Administration and Management—appointment expires on 09/30/12

OASAM Charlotte A. Hayes, Deputy Assistant Secretary for Policy—appointment expires on 09/30/12

OASAM Milton A. Stewart, Director, Business Operations Center—appointment expires on 09/30/12

OASAM Ramon Suris-Fernandez, Director, Civil Rights Center—appointment expires on 09/30/11

OCFO Karen Tekleberhan, Deputy Chief Financial Officer—appointment expires on 09/30/2013

OFCCP Sandra S. Zeigler, Regional Director (Chicago)—appointment expires on 9/30/12

OLMS Stephen J. Willertz, Director, Office of Enforcement and International Union Audits—appointment expires on 09/30/2012

OWCP Rachel P. Leiton, Director, Energy Employees' Occupational Illness Compensation—appointment expires on 09/30/11

SOL Katherine E. Bissell, Associate Solicitor for Civil Rights and Labor Management—appointment expires on 09/30/11

SOL Michael D. Felsen, Regional Solicitor, Boston—appointment expires on 09/30/12

SOL Deborah Greenfield, Deputy Solicitor—appointment expires on 9/30/12

SOL Jeffrey L. Nesvet, Associate Solicitor for Federal Employees' and Energy Workers' Compensation—appointment expires on 09/30/13

VETS Ismael Ortiz, Jr., Deputy Assistant Secretary—appointment expires on 9/30/12

WHD Cynthia C Watson, Regional Administrator (Dallas)—appointment expires on 09/30/13

FOR FURTHER INFORMATION CONTACT: Ms. Crystal Scott, Director, Office of Executive Resources, Room C5508, U.S. Department of Labor, Frances Perkins Building, 200 Constitution Ave., NW., Washington, DC 20210, telephone: (202) 693-7628.

Signed at Washington, DC, on 24th day of November 2010.
Hilda L. Solis,
Secretary of Labor.

[FR Doc. 2010-30210 Filed 11-30-10; 8:45 am]

BILLING CODE 4510-23-P